OFFICE OF SCIENCE AND TECHNOLOGY POLICY

National Nanotechnology Coordination Office

Notice of Public Webinar

ACTION: Notice of public webinar.

SUMMARY: The National Nanotechnology Coordination Office (NNCO), on behalf of the Nanoscale Science, Engineering, and Technology (NSET) Subcommittee of the Committee on Technology, National Science and Technology Council (NSTC), will hold a series of webinars focusing on the experiences, successes, and challenges for small- and medium-sized businesses working in nanotechnology and on issues of interest to the business community. The first webinar in the series will be held Thursday, January 15, 2015.

DATES: The NNCO will hold multiple webinars between the publication of this Notice and December 31, 2015. The first webinar will be held on Thursday, January 15, 2015, from 12:00 p.m. to 1:00 p.m. EST.

ADDRESSES: These free, web-based events are open to the public. For current information about the webinars, please visit www.nano.gov/SMEwebinars2015.

Submitting Questions: Questions of interest to the small- and medium-sized business community may be submitted to webinar@nnco.nano.gov beginning one week prior to the event through the close of the webinar. During the question-and-answer segment of the webinars, submitted questions will be considered in the order received and may be posted on the NNI Web site (www.nano.gov). A moderator will identify relevant questions and pose them to the panelists. Due to time constraints, not all questions may be addressed during the webinar. The moderator reserves the right to group similar questions and to skip questions, as appropriate.

Registration: Registration for the webinar is required and is on a first-come, first-served basis. Registration will open approximately two weeks prior to each event and will be capped at 200 participants. Individuals planning to attend the webinar can find registration information at www.nano.gov/SMEwebinars2015.

FOR FURTHER INFORMATION CONTACT: Ms. Marlowe Newman, 703-292-7128, mnewman@nnco.nano.gov.

SUPPLEMENTARY INFORMATION: A list of Frequently Asked Question for the business community can be found at https://www.nano.gov/bizfaqs. Additional information on Federal funding, infrastructure, and business development can be found at https://www.nano.gov/collaborationsandfunding.

Ted Wackler,
Deputy Chief of Staff and Assistant Director.

[FR Doc. 2014-30325 Filed 12-30-14; 8:45 am]

BILLING CODE 3710-F5-P